TENNESSEE VALLEY AUTHORITY

Paperwork Reduction Act of 1995, as Amended by Public Law 104-13; Submission for OMB Review; Comment Request

AGENCY: Tennessee Valley Authority.

ACTION: Submission for Office of Management & Budget (OMB) Review; Comment Request.

SUMMARY: The proposed information collection described below will be submitted to the Office of Management and Budget (OMB) for review, as required by the Paperwork Reduction Act of 1995 (44 U.S.C. Chapter 35, as amended). The Tennessee Valley Authority is soliciting public comments on this proposed collection as provided by 5 CFR Section 1320.8(d)(1). Requests for information, including copies of the information collection proposed and supporting documentation, should be directed to the Agency Clearance Officer: Alice D. Witt, Tennessee Valley Authority, 1101 Market Street (EB 5B), Chattanooga, Tennessee 37402-2801; (423) 751-6832. (SC: 0009BL5) Comments should be sent to the OMB, Office of Information and Regulatory Affairs, Attention: Desk Officer for Tennessee Valley Authority no later than January 14, 2008.

SUPPLEMENTARY INFORMATION: Type of Request: Regular submission, proposal to reinstate with revisions a currently approved collection of information (OMB control number 3316-0019).

Title of Information Collection: energy right® Program.

Frequency of Use: On occasion.

Type of Affected Public: Residential and small commercial consumers.

Small Business or Organizations Affected: Yes.

Federal Budget Functional Category Code: 271.

Estimated Number of Annual Responses: 29,000.

Estimated Total Annual Burden Hours: 8,700.

Estimated Average Burden Hours Per Response: .3.

This information is used by distributors of TVA power to assist in identifying and financing energy improvements for their electrical energy customers.

Steven A. Anderson,
Senior Manager, IT Planning & Governance, Information Services.

[FR Doc. E7-24239 Filed 12-13-07; 8:45 am]

BILLING CODE 8120-08-P